DEPARTMENT OF THE INTERIOR

Bureau of Land Management

[LLNVC02000 L71220000.EU0000 LVTFF2007240 20X MO# 4500144974]

Notice of Intent To Prepare an Environmental Assessment and Resource Management Plan Amendment, for the Yerington Anaconda Mine Site Disposal, Lyon County, Nevada

AGENCY: Bureau of Land Management, Interior.

ACTION: Notice of intent.

SUMMARY: In compliance with the National Environmental Policy Act of 1969, as amended (NEPA), and the Federal Land Policy and Management Act of 1976, as amended (FLPMA), the United States Department of the Interior, Bureau of Land Management (BLM) Sierra Front Field Office, Carson City, Nevada, intends to prepare an Environmental Assessment (EA) and Land Use Plan Amendment (LUPA) to the current 2001 Carson City Resource Management Plan (CRMP) to analyze the potential impacts of approving the direct sale of surface and mineral estates of 2,062 acres of public lands to Atlantic Richfield Corporation (ARC) in Lyon County, Nevada. This notice announces the beginning of the scoping process to solicit public comments and identify issues to be considered in the EA.

DATES: This notice initiates the public scoping process for the EA. Comments on issues to be considered in the EA may be submitted in writing until January 11, 2021. Comments must be received prior to the close of the scoping period for the BLM to include them in the EA. The BLM will provide additional opportunities for public participation upon publication of the EA.

ADDRESSES: You may submit comments related to the ARC project by any of the following methods:

• Email: gbuma@blm.gov; include “Anaconda Disposal Project EA Comments” in the subject line.

• Mail: BLM, Sierra Front Field Office, attn. Gerrit Buma, 5665 Morgan Mill Road, Carson City, Nevada 89701.

FOR FURTHER INFORMATION CONTACT: For questions about the proposed ARC project, contact Mr. Gerrit Buma, Planning and Environmental Coordinator at: 775-885-6004, 5665 Morgan Mill Road, Carson City, Nevada 89701, or by email to: gbuma@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM intends to prepare an EA and LUPA to the CRMP to analyze the potential impacts of approving the direct sale of 2,062 acres of public lands to ARC in Lyon County, Nevada. The BLM anticipates publishing an EA for the Yerington Anaconda Mine Site Disposal in early 2021. This document would be available for a 30-day public comment period.

The EA will evaluate a request from ARC for a direct sale of public lands associated with the Anaconda Mine site near the town of Yerington in Lyon County, Nevada, as provided for in Section 203(f) of FLPMA. ARC's purpose for this request is to consolidate land ownership, both the surface and mineral estate, to facilitate better management of the Anaconda Mine site remediation. The BLM must amend the 2001 CRMP to ensure all lands within the designated 2,062 acres are suitable for disposal to the private sector. By this notice, the BLM is complying with the requirements in 43 CFR 1610.2(c) to notify the public of potential amendments to the 2001 CRMP. The BLM will integrate the land use planning process with the NEPA analysis process for this project. A Notice of Realty Action will be prepared for publication upon the publication of this notice. The project website can be found at https://go.usa.gov/xdVfj.

The lands to be identified as suitable for disposal under this Notice are legally described as follows:

Mount Diablo Meridian, Nevada

T. 13 N., R. 25 E.,

Sec. 4, SW1/4SW1/4 and SE1/4SE1/4;

Sec. 5, lots 1 thru 3, lots 5 thru 7, and SW1/4NE1/4;

Sec. 7, E1/2NE1/4NE1/4, E1/2SE1/4NE1/4, and E1/2NE1/4SE1/4;

Sec. 8, lots 1, 3, and 4, NE1/4SW1/4SW1/4, N1/2NW1/4SW1/4SW1/4, SE1/4NW1/4SW1/4SW1/4, NE1/4SW1/4SW1/4SW1/4, and SE1/4SW1/4SW1/4;

Sec. 9, W1/2NE1/4NE1/4, W1/2NE1/4, SE1/4NE1/4, N1/2NW1/4, SE1/4NW1/4, NE1/4SW1/4, S1/2SW1/4, and SE1/4;

Sec. 16, lots 3 thru 10, NW1/4NE1/4, and N1/2NW1/4;

Sec. 17, lot 7, lots 13 thru 15, N1/2SW1/4NE1/4, NE1/4NW1/4, NE1/4NW1/4NW1/4, NE1/4SE1/4NW1/4NW1/4, N1/2SE1/4NW1/4, and W1/2SW1/4SE1/4NW1/4;

Sec. 20, lots 2 thru 5, E1/2NE1/4NW1/4NE1/4, SE1/4NW1/4NE1/4, E1/2SW1/4NE1/4, N1/2NE1/4NW1/4SE1/4, SE1/4NE1/4NW1/4SE1/4, and NE1/4SE1/4NW1/4SE1/4;

Sec. 21, lots 1 thru 6, SW1/4NW1/4, SW1/4, N1/2SW1/4SE1/4, SW1/4SW1/4SE1/4, and W1/2SE1/4SW1/4SE1/4;

Sec. 28, W1/2NE1/4NW1/4NE1/4, W1/2NW1/4NE1/4, W1/2NE1/4SE1/4NW1/4NE1/4, W1/2SE1/4NW1/4NE1/4, W1/2SE1/4SE1/4NW1/4NE1/4, NE1/4NW1/4, NE1/4NW1/4NW1/4, N1/2NW1/4NW1/4NW1/4, N1/2SE1/4NW1/4NW1/4, N1/2NE1/4SE1/4NW1/4, and N1/2NW1/4SE1/4NW1/4.

Before including your address, phone number, email address, or other personal identifying information (PII) in your comment, you should be aware that your entire comment, including your PII, may be made publicly available at any time. While you may request in your comment that your PII be withheld from public review, we cannot guarantee that we will be able to do so.

Authority: 40 CFR 1501.7.

Kimberly D. Dow,
Acting Field Manager, Sierra Front Field Office.

[FR Doc. 2020-27349 Filed 12-10-20; 8:45 am]

BILLING CODE 4310-HC-P